DEPARTMENT OF ENERGY

Federal Energy Regulatory Commission

[Docket Nos. RP00-397-007 and RP-33-007]

Questar Pipeline Company; Notice of Tariff Filing

November 7, 2003.

Take notice that on October 31, 2003, Pursuant to 18 CFR 154.7, and the Commission's Order issued August 27, 2002, in Docket Nos. RP00-397, et al. (August 27 Order), Questar Pipeline Company (Questar) tendered for filing and acceptance, the following tariff sheets to First Revised Volume No. 1 of its FERC Gas Tariff to be effective December 1, 2003.

First Revised Volume No. 1

Fourth Revised Sheet No. 41

Ninth Revised Sheet No. 45

Eleventh Revised Sheet No. 46

Ninth Revised sheet No. 71

Fifth Revised Sheet No. 71A

Third Revised sheet No. 75D

Fourth Revised Sheet No. 99J

In this filing Questar states that it filed tariff sheets to implement its Phase II segmentation proposal to be effective December 1, 2003, as directed by the August 27 Order in Docket Nos. RP00-397, et al.

Questar states that a copy of this filing has been served upon its customers, the Public Service Commission of Utah and the Public Service Commission of Wyoming.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” (FERRIS). Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “eFiling” link.

Magalie R. Salas,
Secretary.

[FR Doc. E3-00311 Filed 11-18-03; 8:45 am]

BILLING CODE 6717-01-P